DEPARTMENT OF THE INTERIOR

Bureau of Indian Affairs

[190A2100DD/AAKC001030/A0A51010.999900]

Proclaiming Certain Lands as Reservation for the Sault Ste. Marie Tribe of Chippewa Indians

AGENCY: Bureau of Indian Affairs, Interior.

ACTION: Notice of reservation proclamation.

SUMMARY: This notice informs the public that the Assistant Secretary—Indian Affairs proclaimed approximately 0.115 acres, more or less, an addition to the reservation of the Sault Ste. Marie Tribe of Chippewa Indians, on April 17, 2019.

FOR FURTHER INFORMATION CONTACT: Ms. Sharlene M. Round Face, Bureau of Indian Affairs, Division of Real Estate Services, 1849 C Street NW, MS-4642-MIB, Washington, DC 20240, telephone (505) 563-3132.

SUPPLEMENTARY INFORMATION: This notice is published in the exercise of authority delegated by the Secretary of the Interior to the Assistant Secretary—Indian Affairs by part 209 of the Departmental Manual.

A proclamation was issued according to the Act of June 18, 1934 (48 Stat. 986; 25 U.S.C. 5110) for the lands described below. The land was proclaimed to be part of the Sault Ste. Marie Tribe of Chippewa Indians' Reservation in Chippewa County, Michigan.

Sault Ste. Marie Tribe of Chippewa Indians' Reservation

Michigan Meridian, Chippewa County, Michigan

Legal Description Containing 0.115 Acres, More or Less

Fletcher's Addition Lot 5 Block 2 (469-T-72)

Fletcher's Addition Lot 5, Block 2, Section 8, Township 47 North, Range 1 East.

The above-described lands contain a total of 0.115 acres, more or less, which are subject to all valid rights, reservations, rights-of-way, and easements of record.

This proclamation does not affect title to the lands described above, nor does it affect any valid existing easements for public roads and highways, public utilities, railroads, and pipelines, or any other valid easements or rights-of-way or reservations of record.

Dated: April 17, 2019.
Tara Sweeney,
Assistant Secretary—Indian Affairs.

[FR Doc. 2019-09609 Filed 5-8-19; 8:45 am]

BILLING CODE 4337-15-P